DEPARTMENT OF COMMERCE

National Oceanic and Atmospheric Administration

RIN 0648-XE231

Endangered and Threatened Species; Recovery Plan for Oregon Coast Coho Salmon ESU

AGENCY: National Marine Fisheries Service (NMFS), National Oceanic and Atmospheric Administration (NOAA), Commerce.

ACTION: Notice of availability.

SUMMARY: The National Marine Fisheries Service (NMFS) announces the adoption of a Final Endangered Species Act (ESA) recovery plan (Plan) for the Oregon Coast Coho Salmon (Oncorhynchus kisutch) evolutionarily significant unit (ESU) which is listed as threatened under the ESA. The geographic area covered by the Plan is the Pacific Ocean and freshwater habitat (rivers, streams and lakes) from the Necanicum River near Seaside, Oregon, on the northern end to the Sixes River near Port Orford, Oregon on the south. The objective of the Plan is to provide a guidance framework for restoring the threatened Oregon Coast Coho Salmon ESU to the point where it no longer needs the protections of the ESA. As required under the ESA, the Plan contains objective, measurable delisting criteria, site-specific management actions necessary to achieve the Plan's goals, and estimates of the time and costs required to implement recovery actions. The Plan is now available.

ADDRESSES: Electronic copies of the Plan and the Response to Comments are available online at: www.westcoast.fisheries.noaa.gov/protected_species/salmon_steelhead/recovery_planning_and_implementation/oregon_coast/oregon_coast_recovery_plan.html. A CD ROM of the Plan can be obtained by emailing a request to Nancy Johnson with the subject line “CD ROM Request for Oregon Coast Coho Salmon Recovery Plan”, by phone at (503) 230-5442, by email at nancy.johnson@noaa.gov, or by writing to NMFS Oregon Washington Coastal Office, 1201 NE Lloyd Blvd., Suite 1100, Portland, Oregon 97232 ATTN: Recovery Coordinator.

FOR FURTHER INFORMATION CONTACT: Robert Walton, NMFS Oregon Coast Coho Salmon Recovery Coordinator, at (503) 231-2285, or rob.walton@noaa.gov.

SUPPLEMENTARY INFORMATION:

Background

We are responsible for developing and implementing recovery plans for Pacific salmon and steelhead listed under the ESA of 1973, as amended (16 U.S.C. 1531 et seq.). Recovery means that the listed species and their ecosystems are sufficiently restored, and their future secured, to the point that the protections of the ESA are no longer necessary. See 50 CFR 424.11(d)(2). Section 4(f) (1) of the ESA requires that recovery plans include, to the maximum extent practicable: (1) Objective, measurable criteria which, when met, would result in a determination that the species is no longer threatened or endangered; (2) site-specific management actions necessary to achieve the plan's goals; and (3) estimates of the time required and costs to implement recovery actions. The ESA requires the development of recovery plans for each listed species unless such a plan would not promote its recovery.

We believe it is essential to have local support of recovery plans by those whose activities directly affect the listed species and whose continued commitment and leadership will be needed to implement the necessary recovery actions. We therefore support and participate in locally led, collaborative efforts to develop recovery plans that involve state, tribal, and Federal entities, local communities, and other stakeholders.

Section 4(f) of the ESA, as amended in 1988, requires that public notice and an opportunity for public review and comment be provided prior to final approval of a recovery plan. We published a Notice of Availability of the Draft Plan in Federal Register on October 13, 2015. (80 FR 61379). In response to requests, we extended the public comment period until December 31, 2015 to provide additional opportunity for public comment. We received extensive comments on the Proposed Plan, summarized the comments and revised the Proposed Plan based on the comments received, and this final version now constitutes the Recovery Plan for the Oregon Coast coho salmon ESU. In brief, we revised several important sections (including the delisting criteria and implementation chapters), clarified a number of issues, and added information provided by commenters, including a number of new initiatives by the state of Oregon. We have determined that this ESA Recovery Plan for Oregon Coast Coho Salmon meets the statutory requirements for a recovery plan.

The Final Plan

For the purpose of recovery planning for the ESA-listed species of Pacific salmon and steelhead in Idaho, Oregon and Washington, NMFS designated five geographically based “recovery domains.” The Oregon Coast Coho Salmon ESU spawning range is in the Oregon Coast domain. For each domain, NMFS appointed a team of scientists, nominated for their geographic and species expertise, to provide a solid scientific foundation for recovery plans. The Oregon and Northern California Coasts Technical Recovery Team (TRT) included scientists from NMFS, other Federal agencies, the state of Oregon, and the private sector.

A primary task for the Oregon and Northern California Coasts Technical Recovery Team was to recommend criteria for determining when the ESU should be considered viable (i.e., when they are have a low risk of extinction over a 100-year period) and when the ESU would have a risk of extinction consistent with no longer needing the protections of the ESA. All Technical Recovery Teams used the same biological principles for developing their recommendations; these principles are described in the NOAA technical memorandum Viable Salmonid Populations and the Recovery of Evolutionarily Significant Units (McElhany et al., 2000). Viable salmonid populations (VSP) are defined in terms of four parameters: abundance, productivity or growth rate, spatial structure, and diversity.

For this Plan, we collaborated with state, tribal and Federal scientists and resource managers and stakeholders to provide technical information that NMFS used to write the Plan which is built upon state and locally-led recovery efforts.

Contents of Plan

Our goal is to restore the threatened Oregon Coast Coho Salmon ESU to the point where it is again a viable, self-sustaining member of its ecosystem and no longer needs the protections of the ESA. The Plan contains biological background and contextual information that includes description of the ESU, the planning area, and the context of the plan's development. It presents relevant information on ESU structure, biological status and proposed biological viability criteria and threats criteria for delisting.

The Plan also describes specific information on the following: Current status of Oregon Coast Coho Salmon; limiting factors and threats for the full life cycle that contributed to the species decline; recovery strategies and actions addressing these limiting factors and threats; key information needs, and a proposed research, monitoring, and evaluation program for adaptive management. For recovery strategies and actions, Chapter 6 in the Plan includes proposed actions at the ESU and strata levels. Population level information will be posted on the recovery plan Web site (see below). The Plan also describes implementation, prioritization of actions, and adaptive management at the population, strata, and ESU scales. The Plan also summarizes time and costs (Chapter 7) required to implement recovery actions. In addition to the information in the Plan, readers are referred to the recovery plan Web site for more information on all these topics: http://www.westcoast.fisheries.noaa.gov/protected_species/salmon_steelhead/recovery_planning_and_implementation/.

How NMFS and Others Expect To Use the Plan

We will commit to implement the actions in the Plan for which we have authority and funding; encourage other Federal and state agencies and tribal governments to implement recovery actions for which they have responsibility, authority and funding; and work cooperatively with the public and local stakeholders on implementation of other actions. We expect the Plan to guide us and other Federal agencies in evaluating Federal actions under ESA section 7, as well as in implementing other provisions of the ESA and other statutes. For example, the Plan provides greater biological context for evaluating the effects that a proposed action may have on a species by providing delisting criteria, information on priority areas for addressing specific limiting factors, and information on how future populations within the ESU can tolerate varying levels of risk.

When we are considering a species for delisting, the agency will examine whether the section 4(a)(1) listing factors have been addressed. To assist in this examination, we will use the delisting criteria described in Chapter 4 of the Plan, which includes both biological criteria and criteria addressing each of the ESA section 4(a)(1) listing factors, as well as any other relevant data and policy considerations.

We will also work with the partners described in the Plan to develop implementation schedules that provide greater specificity for recovery actions to be implemented over three-to five-year periods. This will also help promote implementation of recovery actions and subsequent implementation schedules, and will track and report on implementation progress.

Conclusion

Section 4(f)(1)(B) of the ESA requires that recovery plans incorporate, to the maximum extent practicable, (1) objective, measurable criteria which, when met, would result in a determination that the species is no longer threatened or endangered; (2) site-specific management actions necessary to achieve the plan's goals; and (3) estimates of the time required and costs to implement recovery actions. We conclude that the Plan meets the requirements of ESA section 4(f) and adopt it as the ESA Recovery Plan for Oregon Coast Coho Salmon.

Literature Cited

McElhany, P., M.H. Ruckelshaus, M.J. Ford, T.C. Wainwright, and E.P. Bjorkstedt. 2000.

Viable salmon populations and the recovery of evolutionarily significant units. U.S.

Dept. of Commerce, NOAA Tech. Memo., NMFS NWFSC 42, 156 p.

Authority: 16 U.S.C. 1531 et seq.

Dated: December 12, 2016.
Donna Wieting,
Director, Office of Protected Resources, National Marine Fisheries Service.

[FR Doc. 2016-30126 Filed 12-14-16; 8:45 am]

BILLING CODE 3510-22-P